DEPARTMENT OF COMMERCE

National Oceanic and Atmospheric Administration

RIN 0648-XF554

Pacific Fishery Management Council; Public Meeting

AGENCY: National Marine Fisheries Service (NMFS), National Oceanic and Atmospheric Administration (NOAA), Commerce.

ACTION: Notice; public meeting.

SUMMARY: The Pacific Fishery Management Council's (Pacific Council) Groundfish Management Team (GMT) will hold two webinars that are open to the public.

DATES: The GMT webinars will be held Wednesday, August 2, 2017 from 10 a.m. until 12 p.m. and Wednesday, September 6, 2017, from 8 a.m. to 12 p.m. Webinar end times are estimates, meetings will adjourn when business for each day is completed.

ADDRESSES: The following login instructions will work for any of the webinars in this series. To attend the webinar (1) join the meeting by visiting this link http://www.gotomeeting.com/online/webinar/join-webinar; (2) enter the Webinar ID: 740-284-043, and (3) enter your name and email address (required). After logging in to the webinar, please (1) dial this TOLL number (+1) (914) 614-3221 (not a toll-free number); (2) enter the attendee phone audio access code 572-823-832; and (3) then enter your audio phone pin (shown after joining the webinar). NOTE: We have disabled Mic/Speakers as on option and require all participants to use a telephone or cell phone to participate. Technical Information and System Requirements: PC-based attendees are required to use Windows® 7, Vista, or XP; Mac®-based attendees are required to use Mac OS® X 10.5 or newer; Mobile attendees are required to use iPhone®, iPad®, Android™ phone or Android tablet (See the GoToMeeting WebinarApps). You may send an email to Mr. Kris Kleinschmidt at Kris.Kleinschmidt@noaa.gov or contact him at 503-820-2280, extension 411 for technical assistance. A public listening station will also be available at the Pacific Council office.

Council address: Pacific Council, 7700 NE Ambassador Place, Suite 101, Portland, Oregon 97220-1384; telephone: 503-820-2280.

FOR FURTHER INFORMATION CONTACT: Ms. Kelly Ames, Pacific Council, 503-820-2426.

SUPPLEMENTARY INFORMATION: The primary purpose of the GMT webinars are to prepare for the September 2017 Pacific Council meeting. A detailed agenda for each webinar will be available on the Pacific Council's Web site prior to the meeting. The GMT may also address other assignments relating to groundfish management. No management actions will be decided by the GMT. The GMT's task will be to develop recommendations for consideration by the Pacific Council at its meetings in 2017.

Although nonemergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The public listening station is physically accessible to people with disabilities. Requests for sign language interpretation or other auxiliary aids should be directed to Mr. Kris Kleinschmidt at 503-820-2411 at least ten business days prior to the meeting date.

Dated: July 14, 2017.
Tracey L. Thompson,
Acting Director, Office of Sustainable Fisheries, National Marine Fisheries Service.

[FR Doc. 2017-15138 Filed 7-18-17; 8:45 am]

BILLING CODE 3510-22-P